FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than September 23, 2021.

A. Federal Reserve Bank of Kansas City (Jeffrey Imgarten, Assistant Vice President) 1 Memorial Drive, Kansas City, Missouri 64198-0001:

1. The Bryce S. Flaming Irrevocable Trust, the Matthew G. Flaming Irrevocable Trust, and the Ashley N. Flaming Irrevocable Trust, all of Cherokee, Oklahoma, Gerald R. Chelgren, as trustee for each trust, Derby, Kansas;

The Randy Scott Flaming Trust, the Rebecca Salinas Irrevocable Trust, and the Jacob Salinas Irrevocable Trust, Brenda Salinas, as trustee for each trust, and the Barbara Dean Flaming Trust, Jose Salinas, individually, and as trustee all of Cherokee, Oklahoma;

To join the Flaming Family Group, a group acting in concert, to retain voting shares of Alfalfa County Bancshares, Inc., and thereby indirectly retain voting shares of ACB Bank, both of Cherokee, Oklahoma.

Board of Governors of the Federal Reserve System, September 2, 2021.
Michele Taylor Fennell,
Deputy Associate Secretary of the Board.

[FR Doc. 2021-19376 Filed 9-3-21; 8:45 am]

BILLING CODE P